DEPARTMENT OF COMMERCE

National Oceanic and Atmospheric Administration

[I.D. 100404A]

Marine Mammals; File No. 1072-1771

AGENCY: National Marine Fisheries Service (NMFS), National Oceanic and Atmospheric Administration (NOAA), Commerce.

ACTION: Receipt of application.

SUMMARY: Notice is hereby given that Dr. Colleen Reichmuth Kastak, Long Marine Laboratory, Institute of Marine Science, University of California at Santa Cruz, 100 Schaffer Road, Santa Cruz, CA 95060, has applied in due form for a permit to conduct research on captive pinnipeds.

DATES: Written, telefaxed, or e-mail comments must be received on or before November 22, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1072-1771.

FOR FURTHER INFORMATION CONTACT: Amy Sloan or Tammy Adams, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

The proposed research involves a continuation of studies designed to evaluate hearing and visual sensitivity, memory, and learning capabilities of up to seven captive pinnipeds (three California sea lions, Zalophus californianus; two Pacific harbor seals, Phoca vitulina; and two Northern elephant seals, Mirounga angustirostris). Animals would be trained using positive reinforcement and would voluntarily participate in up to three experimental sessions per day, up to seven days per week annually at Long Marine Laboratory. This research would improve knowledge of pinniped sensory adaptations, examine mechanisms for acquiring and processing sensory information, and develop procedures for rapidly and humanely studying marine mammal hearing and the effects of anthropogenic noise. These efforts would support research priorities for marine mammals that have been identified by the National Research Council. The permit has been requested for a 5-year period. In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 19, 2004.
Stephen L. Leathery,
Chief, Permits, Conservation and Education Division, Office of Protected Resources, National Marine Fisheries Service.

[FR Doc. 04-23732 Filed 10-21-04; 8:45 am]

BILLING CODE 3510-22-S